DEPARTMENT OF STATE

[Public Notice 5103]

Overseas Buildings Operations; Industry Advisory Panel: Meeting Notice

The Industry Advisory Panel of the Overseas Buildings Operations will meet on Thursday, September 22, 2005 from 09:45 a.m. until 3:30 p.m. Eastern Standard Time. The meeting will be held at the Department of State, 2201 C Street, NW. (entrance on 23rd Street), Loy Henderson Room, Washington, DC.The majority of the meeting is devoted to an exchange of ideas between the Department's Bureau of Overseas Buildings Operations' senior management and the panel members, on design, operations and building maintenance. Members of the public are asked to kindly refrain from joining the discussion until Director Williams opens the discussion to the public.

Due to limited seating space for members of the public, we ask that you kindly e-mail your information. To participate in this meeting, simply register by e-mail at IAPR@STATE.GOV before September 15, 2005. Your e-mail should include the following information; Date of birth, social security number, company name and title. This information is required to issue a temporary pass to enter the building.

For questions, please contact PinzinoLE3@state.gov or call tel: 703/875-6872 Ms. Gina Pinzino; or SpragueMA@state.gov tel: 703/875-7173 for Michael Sprague.

Dated: July 13, 2005.
Charles E. Williams,
Director & Chief Operating Officer, Overseas Buildings Operations, Department of State.

[FR Doc. 05-14739 Filed 7-25-05; 8:45 am]

BILLING CODE 4710-24-P